DEPARTMENT OF THE TREASURY

Office of Thrift Supervision

[AC-50: OTS Nos. 17972 and H4743]

SharePlus Federal Bank, Plano, TX; Approval of Conversion Application

Notice is hereby given that on August 12, 2010, the Office of Thrift Supervision approved the application of SharePlus Federal Bank, Piano, Texas, to convert to the stock form of organization. Copies of the application are available for inspection by appointment (phone number: (202) 906-5922 or e-mail: public.info@ots.treas.gov) at the Public Reading Room, 1700 G Street, NW., Washington, DC 20552, and the OTS Western Regional Office, 225 East John Carpenter Freeway, Suite 500, Irving, Texas 75062-2326.

Dated: August 17, 2010.
By the Office of Thrift Supervision.
Sandra E. Evans,
Federal Register Liaison.

[FR Doc. 2010-20812 Filed 8-23-10; 8:45 am]

BILLING CODE 6720-01-M